DEPARTMENT OF HOMELAND SECURITY

Federal Emergency Management Agency

[Docket ID FEMA-2023-0002; Internal Agency Docket No. FEMA-B-2373]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Online location of letter of map revision | Date of modification | Community No.
Arizona:
Maricopa | City of Glendale (23-09-0431P). | The Honorable Jerry Weiers, Mayor, City of Glendale, 5850 West Glendale Avenue, Suite 451, Glendale, AZ 85301. | City Hall, 5850 West Glendale Avenue, Glendale, AZ 85338. | https://msc.fema.gov/portal/advanceSearch. | Dec. 8, 2023 | 040045
Maricopa | City of Goodyear (23-09-0431P). | The Honorable Joe Pizzillo, Mayor, City of Goodyear, 1900 North Civic Square, Goodyear, AZ 85395. | Engineering Department, 14455 West Van Buren Street, Suite D101, Goodyear, AZ 85338. | https://msc.fema.gov/portal/advanceSearch. | Dec. 8, 2023 | 040046
Maricopa | City of Surprise (22-09-1771P). | The Honorable Skip Hall, Mayor, City of Surprise, 16000 North Civic Center Plaza, Surprise, AZ 85374. | Public Works Department, Engineering Development Services, 16000 North Civic Center Plaza, Surprise, AZ 85374. | https://msc.fema.gov/portal/advanceSearch. | Dec. 22, 2023 | 040053
Maricopa | Unincorporated Areas of Maricopa County (22-09-1771P). | The Honorable Clint L. Hickman, Chair, Board of Supervisors, Maricopa County, 301 West Jefferson Street, 10th Floor, Phoenix, AZ 85003. | Flood Control District of Maricopa County, 2801 West Durango Street, Phoenix, AZ 85009. | https://msc.fema.gov/portal/advanceSearch. | Dec. 22, 2023 | 040037
Maricopa | Unincorporated Areas of Maricopa County (23-09-0431P). | The Honorable Clint L. Hickman, Chair, Board of Supervisors, Maricopa County, 301 West Jefferson Street, 10th Floor, Phoenix, AZ 85003. | Flood Control District of Maricopa County, 2801 West Durango Street, Phoenix, AZ 85009. | https://msc.fema.gov/portal/advanceSearch. | Dec. 8, 2023 | 040037
California:
Fresno | City of Clovis (22-09-0533P). | The Honorable Lynne Ashbeck, Mayor, City of Clovis, 1033 5th Street, Clovis, CA 93612. | City Clerk's Office, Civic Center, 1033 5th Street, Clovis, CA 93612. | https://msc.fema.gov/portal/advanceSearch. | Dec. 28, 2023 | 060044
Placer | Unincorporated Areas of Placer County (23-09-0551P). | The Honorable Jim Holmes, Chair, Board of Supervisors, Placer County, 175 Fulweiler Avenue, Auburn, CA 95603. | Placer County Public Works, 3091 County Center Drive, Suite 220, Auburn, CA 95603. | https://msc.fema.gov/portal/advanceSearch. | Dec. 22, 2023 | 060239
Riverside | City of Hemet (23-09-0353P). | The Honorable Joe Males, Mayor, City of Hemet, 445 East Florida Avenue, Hemet, CA 92543. | Engineering Department, 510 East Florida Avenue, Hemet, CA 92543. | https://msc.fema.gov/portal/advanceSearch. | Dec. 14, 2023 | 060253
Riverside | Unincorporated Areas of Riverside County (22-09-1127P). | The Honorable Kevin Jeffries, Chair, Board of Supervisors, Riverside County, 4080 Lemon Street, 5th Floor, Riverside, CA 92501. | Riverside County, Flood Control and Water Conservation District, 1995 Market Street, Riverside, CA 92501. | https://msc.fema.gov/portal/advanceSearch. | Jan. 11, 2024 | 060245
Riverside | Unincorporated Areas of Riverside County (23-09-0353P). | The Honorable Kevin Jeffries, Chair, Board of Supervisors, Riverside County, 4080 Lemon Street, 5th Floor, Riverside, CA 92501. | Riverside County, Flood Control and Water Conservation District, 1995 Market Street, Riverside, CA 92501. | https://msc.fema.gov/portal/advanceSearch. | Dec. 14, 2023 | 060245
San Diego | Unincorporated Areas of San Diego County (22-09-0129P). | The Honorable Nora Vargas, Chair, Board of Supervisors, San Diego County, 1600 Pacific Highway Room 335, San Diego, CA 92101. | San Diego County Flood Control District, Department of Public Works, 5510 Overland Avenue, Suite 410, San Diego, CA 92123. | https://msc.fema.gov/portal/advanceSearch. | Dec. 27, 2023 | 060284
Florida:
Duval | City of Jacksonville (23-04-2806P). | The Honorable Lenny Curry, Mayor, City of Jacksonville, Mayor's Office, 117 West Duval Street, Suite 400, Jacksonville, FL 32202. | Edward Ball Building Development Services, 214 North Hogan Street, Room 2100, Jacksonville, FL 32202. | https://msc.fema.gov/portal/advanceSearch. | Dec. 14, 2023 | 120077
St. Johns | Unincorporated Areas of St. Johns County, Florida (23-04-0792P). | Henry Dean, Commissioner, District 5, St. Johns County, 500 San Sebastian View, St. Augustine, FL 32084. | St. Johns County, Permit Center, 4040 Lewis Speedway, St. Johns County, FL 32084. | https://msc.fema.gov/portal/advanceSearch. | Dec. 14, 2023 | 125147
St. Johns | Unincorporated Areas of St. Johns County, Florida (23-04-0824P). | Henry Dean, Commissioner, District 5, St. Johns County, 500 San Sebastian View, St. Augustine, FL 32084. | St. Johns County Permit Center, 4040 Lewis Speedway, St. Augustine, FL 32084. | https://msc.fema.gov/portal/advanceSearch. | Dec. 19, 2023 | 125147
Illinois:
DuPage | City of Naperville (22-05-2659P). | The Honorable Scott A. Wehrli, Mayor, City of Naperville, Municipal Center, 400 South Eagle Street, Naperville, IL 60540. | Municipal Center, 400 South Eagle Street, Naperville, IL 60540. | https://msc.fema.gov/portal/advanceSearch. | Jan. 8, 2024 | 170213
DuPage | Unincorporated Areas of DuPage County (22-05-2659P). | Deborah Conroy, Chair, DuPage County Board, 421 North County Farm Road, Wheaton, IL 60187. | DuPage County Administration Building, Stormwater Management, 421 North County Farm Road, Wheaton, IL 60187. | https://msc.fema.gov/portal/advanceSearch. | Jan. 8, 2024 | 170197
Will | City of Joliet (23-05-1511P). | The Honorable Terry D'Arcy, Mayor, City of Joliet, 150 West Jefferson Street, Joliet, IL 60432. | City Hall, 150 West Jefferson Street, Joliet, IL 60432. | https://msc.fema.gov/portal/advanceSearch. | Jan. 2, 2024 | 170702
Will | Village of Plainfield (23-05-0385P). | John Argoudelis, Village President, Village of Plainfield, 24401 West Lockport Street, Plainfield, IL 60544. | Village Hall, 24401 West Lockport Street, Plainfield, IL 60544. | https://msc.fema.gov/portal/advanceSearch. | Jan. 8, 2024 | 170771
Missouri:
Jackson | City of Kansas City (23-07-0053P). | The Honorable Quinton Lucas, Mayor, City of Kansas City, 414 East 12th Street, 29th Floor, Kansas City, MO 64106. | Federal Office Building, 911 Walnut Street, Kansas City, MO 64106. | https://msc.fema.gov/portal/advanceSearch. | Dec. 13, 2023 | 290173
St. Charles | City of Cottleville (22-07-0821P). | The Honorable Bob Ronkoski, Mayor, City of Cottleville, 5490 5th Street, Cottleville, MO 63304. | City Hall, 5490 5th Street, Cottleville, MO 63304. | https://msc.fema.gov/portal/advanceSearch. | Sep. 22, 2023 | 290898
St. Charles | City of O'Fallon (22-07-0821P). | The Honorable Bill Hennessy, Mayor, City of O'Fallon, 100 North Main Street, O'Fallon, MO 63366. | City Hall, 100 North Main Street, O'Fallon, MO 63366. | https://msc.fema.gov/portal/advanceSearch. | Sep. 22, 2023 | 290316
St. Charles | Unincorporated Areas of St. Charles County (22-07-0821P). | Steve Ehlmann, County Executive, St. Charles County, 100 North Second Street, Suite 318, St. Charles, MO 63301. | St. Charles County Administration Building, 201 North Second Street, Suite 420, St. Charles, MO 63301. | https://msc.fema.gov/portal/advanceSearch. | Sep. 22, 2023 | 290315
Oregon:
Multnomah | City of Gresham (23-10-0228P). | The Honorable Travis Stovall, Mayor, City of Gresham, City Hall, 1333 Northwest Eastman Parkway, 3rd Floor, Gresham, OR 97030. | City Hall, 1333 Northwest Eastman Parkway, Gresham, OR 97030. | https://msc.fema.gov/portal/advanceSearch. | Dec. 28, 2023 | 410181
Virginia:
Roanoke | City of Roanoke (23-03-0152P). | The Honorable Sherman P. Lea, Sr., Mayor, City of Roanoke, Noel C. Taylor Municipal Building, 215 Church Avenue, Roanoke, VA 24011. | Engineering Department, Noel C. Taylor Municipal Building, 215 Church Avenue, Roanoke, VA 24011. | https://msc.fema.gov/portal/advanceSearch. | Dec. 22, 2023 | 510130
Roanoke | City of Salem (23-03-0152P). | The Honorable Renee Turk, Mayor, City of Salem, 114 North Broad Street, Salem, VA 24153. | Office of the Building Official, 1238 West Main Street, Salem, VA 24153. | https://msc.fema.gov/portal/advanceSearch. | Dec. 22, 2023 | 510141
Roanoke | Town of Vinton (23-03-0152P). | The Honorable Bradley E. Grose, Mayor, Town of Vinton, 311 South Pollard Street, Vinton, VA 24179. | Planning and Zoning Department, 311 South Pollard Street, Vinton, VA 24179. | https://msc.fema.gov/portal/advanceSearch. | Dec. 22, 2023 | 510131
Roanoke | Unincorporated Areas of Roanoke County (23-03-0152P). | Martha B. Hooker, Chair, Roanoke County Board of Supervisors, P.O. Box 29800, Roanoke, VA 24018. | Roanoke County Community Development, 5204 Bernard Drive Southwest, Roanoke, VA 24018. | https://msc.fema.gov/portal/advanceSearch. | Dec. 22, 2023 | 510190
Wisconsin:
Outagamie | City of Kaukauna (22-05-2660P). | The Honorable Anthony Penterman, Mayor, City of Kaukauna, 144 West Second Street, Kaukauna, WI 54130. | City Hall, 201 West Second Street, Kaukauna, WI 54130. | https://msc.fema.gov/portal/advanceSearch. | Jan. 4, 2024 | 550305
Outagamie | Unincorporated Areas of Outagamie County (22-05-2660P). | Thomas Nelson, Executive, Outagamie County, County Building, 410 South Walnut Street, Appleton, WI 54911. | Outagamie County Building, 410 South Walnut Street, Appleton, WI 54911. | https://msc.fema.gov/portal/advanceSearch. | Jan. 4, 2024 | 550302

[FR Doc. 2023-21034 Filed 9-26-23; 8:45 am]

BILLING CODE 9110-12-P